DEPARTMENT OF TRANSPORTATION

Federal Aviation Administration

14 CFR Part 39

[Docket No. 2001-NE-22-AD; Amendment 39-12445; AD 2001-19-05]

RIN 2120-AA64

Airworthiness Directives; Rolls-Royce plc. RB211 535 Turbofan Engines

AGENCY: Federal Aviation Administration, DOT.

ACTION: Final rule; request for comments.

SUMMARY: This amendment adopts a new airworthiness directive (AD) that is applicable to Rolls-Royce plc. (RR) models RB211-535C-37, RB211-535E4-37, RB211-535E4-B-37, and RB211-535E4-B-75 turbofan engines, with radial drive steady bearing, part number (P/N) LK76084. This action requires the replacement of certain radial drive steady bearings, installed in the high speed gearbox drive. This amendment is prompted by five reports of radial drive steady bearing failures. The actions specified in this AD are intended to reduce the risk of engine in-flight shutdown, due to failure at low life of radial drive steady bearings.

DATES: Effective October 11, 2001.

Comments for inclusion in the Rules Docket must be received on or before November 26, 2001.

ADDRESSES: Information regarding this action may be examined at the Federal Aviation Administration (FAA), New England Region, Office of the Regional Counsel, 12 New England Executive Park, Burlington, MA,. or at the Office of the Federal Register, 800 North Capitol Street, NW., suite 700, Washington, DC.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION: The Civil Aviation Authority (CAA), which is the airworthiness authority for the United Kingdom (UK), recently notified the FAA that an unsafe condition may exist on Rolls-Royce plc. models (RR) RB211-535C-37, RB211-535E4-37, RB211-535E4-B-37, and RB211-535E4-B-75 turbofan engines. The CAA advises that five reports of failure of the radial drive steady bearing have occurred, causing three in-flight shutdowns. Investigation has concluded that a number of radial drive steady bearings have been found with evidence of loose rivets after a short period in service and have a potential for low life failure as a result. This condition can lead to the eventual failure of the radial drive steady bearing and an in-flight shutdown.

Manufacturer's Service Information

Rolls-Royce plc has issued mandatory service bulletin (MSB) RB.211-72-D176, dated September 19, 2000, that specifies procedures for ensuring that all airplanes having engines with the affected bearing design installed, will meet the following criteria:

• Both radial drive steady bearings installed will have more than 600 flight hours accumulated on each engine, or

• At least one radial drive steady bearing installed will have more than 1,500 flight hours accumulated on one engine if the other engine has less than 600 accumulated flight hours, or

• One or both engines replace radial drive steady bearings of the affected design with new design bearings as specified in service bulletin (SB) RB.211-72-C925.

The CAA has classified this service bulletin as mandatory and issued AD 004-09-2000, dated September 19, 2000, in order to assure the airworthiness of these RR engines in the UK.

Bilateral Airworthiness Agreement

This engine model is manufactured in the UK, and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

FAA's Determination of an Unsafe Condition and Required Actions

Since an unsafe condition has been identified that is likely to exist or develop on other Rolls-Royce plc. (RR) models RB211-535C-37, RB211-535E4-37, RB211-535E4-B-37, and RB211-535E4-B-75 turbofan engines of the same type design, this AD is being issued to reduce the risk of engine in-flight shutdown, due to failure at low life of radial drive steady bearings. This AD requires the replacement of certain radial drive steady bearings, based on their accumulated flight time.

Immediate Adoption of This AD

Since a situation exists that requires the immediate adoption of this regulation, it is found that notice and opportunity for prior public comment hereon are impracticable, and that good cause exists for making this amendment effective in less than 30 days.

Therefore, a situation exists that allows the immediate adoption of this regulation.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption “ADDRESSES.” All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2001-NE-22-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-19-05 Rolls-Royce plc. Amendment 39-12445. Docket 2001-NE-22-AD.

Applicability

This airworthiness directive (AD) is applicable to Rolls-Royce plc. (RR) models RB211-535C-37, RB211-535E4-37, RB211-535E4-B-37, and RB211-535E4-B-75 turbofan engines, with radial drive steady bearings, part number (P/N) LK76084, installed on, but not limited to Boeing 757 and Tupolev Tu204 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To reduce the risk of engine in-flight shutdown due to low life failure of radial drive steady bearings, do the following:

(a) If one or more engines in an airplane have a part number radial drive steady bearing installed other than P/N LK76084, no further action is required.

(b) If all engines in an airplane have a radial drive steady bearing P/N LK76084 installed, replace bearings within 100 flight hours after the effective date of this AD, as specified in Table 1 as follows:

Table 1.—Radial Drive Steady Bearing Replacement Conditions
If | Then
(1) Both engines have a radial drive steady bearing P/N LK76084 with fewer than 600 hours-since-new (HSN) | Replace the lowest life bearing with a bearing P/N FB222165 or, a bearing P/N LK76084 that has greater than 1,500 HSN.
(2) One engine has a radial drive steady bearing P/N LK76084 with fewer than 600 HSN, and the other engine has a bearing P/N LK76084 with more than 600 HSN but fewer than 1,500 HSN | Replace the lowest life bearing with a bearing with a bearing P/N FB222165 or, a bearing P/N LK 76084 that has greater than 600 HSN.
(3) One engine has a radial drive steady bearing P/N FK76084 with fewer than 600 HSN, and the other engine has a bearing P/N FK76084 with more than 1,500 HSN | No action required.
(4) Both engines have a radial drive steady bearing P/N FK76084 with 600 or more HSN | No action required.

(c) Whenever an engine is newly installed in an airplane, repeat paragraphs (a) through (b) of this AD. For information on installing radial drive steady bearing P/N FB222165, see Rolls-Royce plc. Service Bulletin RB.211-72-C925, Revision 2, dated March 23, 2001.

Alternative Methods of Compliance

(d) An alternative method of compliance or adjustment of the compliance time that provides an acceptable level of safety may be used if approved by the Manager, Engine Certification Office (ECO). Operators must submit their requests through an appropriate FAA Principal Maintenance Inspector, who may add comments and then send it to the Manager, ECO.

Note 2: Information concerning the existence of approved alternative methods of compliance with this airworthiness directive, if any, may be obtained from the ECO.

Special Flight Permits

(e) Special flight permits may be issued in accordance with sections 21.197 and 21.199 of the Federal Aviation Regulations (14 CFR 21.197 and 21.199) to operate the aircraft to a location where the requirements of this AD can be accomplished.

Note 3: The subject of this AD is addressed in Civil Airworthiness Authority airworthiness directive AD 004-09-2000, dated September 19, 2000.

Effective Date of this AD

(f) This amendment becomes effective on October 11, 2001.

Issued in Burlington, Massachusetts, on September 18, 2001.
Jay J. Pardee,
Manager, Engine and Propeller Directorate, Aircraft Certification Service.

[FR Doc. 01-24023 Filed 9-25-01; 8:45 am]

BILLING CODE 4910-13-P